DEPARTMENT OF HOMELAND SECURITY

Coast Guard

33 CFR Part 165

[Docket No. USCG-2016-0388]

Eighth Coast Guard District Annual Safety Zones; Wheeling Heritage Port Festival; Ohio River Mile 90.2 to 90.7; Wheeling, WV

AGENCY: Coast Guard, DHS.

ACTION: Notice of enforcement of regulation.

SUMMARY: The Coast Guard will enforce a safety zone for the Wheeling Heritage Port Festival Fireworks on the Ohio River, in Wheeling, WV from mile 90.2 to 90.7, extending the entire width of the river on September 17, 2016. This zone is needed to protect vessels transiting the area and event spectators from the hazards associated with a barge-based fireworks display. During the enforcement period, entry into, transiting, or anchoring in the safety zone is prohibited to all vessels not registered with the sponsor as participants or official patrol vessels, unless specifically authorized by the Captain of the Port (COTP) Pittsburgh or a designated representative.

DATES: The regulations in 33 CFR 165.801 Table 1, Sector Ohio Valley, No. 60, will be enforced from 10 p.m. until 11:30 p.m., on September 17, 2016.

FOR FURTHER INFORMATION CONTACT: If you have questions about this notice of enforcement, call or email MST1 Jennifer Haggins, Marine Safety Unit Pittsburgh, U.S. Coast Guard; telephone 412-221-0807, email Jennifer.L.Haggins@uscg.mil.

SUPPLEMENTARY INFORMATION: The Coast Guard will enforce the Safety Zone for the annual Wheeling Heritage Port Sternwheel Festival Fireworks listed in 33 CFR 165.801 Table 1, Sector Ohio Valley, No. 60, from 10 p.m. to 11:30 p.m. on September 17, 2016. This safety zone extends from mile 90.2 to 90.7 on the Ohio River in Wheeling, WV. This action is being taken to provide for the safety of life on navigable waterways during the fireworks display. Entry into the safety zone is prohibited unless authorized by the COTP or a designated representative. Persons or vessels desiring to enter into or passage through the safety zone must request permission from the COTP or a designated representative. If permission is granted, all persons and vessels shall comply with the instructions of the COTP or designated representative.

This notice of enforcement is issued under authority of 33 CFR 165.801 and 5 U.S.C. 552(a). In addition to this notice of enforcement in the Federal Register, the Coast Guard will provide the maritime community with advance notification of this enforcement period via Local Notice to Mariners and updates via Marine Information Broadcasts.

L. Mcclain, Jr.,
Commander, U.S. Coast Guard, Captain of the Port Pittsburgh.

[FR Doc. 2016-14900 Filed 6-23-16; 8:45 am]

BILLING CODE 9110-04-P